DEPARTMENT OF JUSTICE

[OMB 1140-0094]

Agency Information Collection Activities; Proposed eCollection eComments Requested; Extension of a Previously Approved Collection; Certifying Qualifying State Relief from Disabilities Program

AGENCY: Bureau of Alcohol, Tobacco, Firearms, and Explosives, Department of Justice.

ACTION: 60-Day notice.

SUMMARY: The Bureau of Alcohol, Tobacco, Firearms, and Explosives (ATF)of the Department of Justice, will be submitting the following information collection request to the Office of Management and Budget (OMB) for renewal review and approval in accordance with the Paperwork Reduction Act of 1995.

DATES: Comments are encouraged and will be accepted for 60 days until October 6, 2025.

FOR FURTHER INFORMATION CONTACT: If you have additional comments, especially on the estimated public burden or associated response time, suggestions, or need a copy of the proposed information collection instrument with instructions or additional information, contact: Pamela Eisert, FIPB, either by mail at Bureau of Alcohol, Tobacco, Firearms, and Explosives; 99 New York Ave NE, Washington, DC 20226, by email at fipb-informationcollection@atf.gov, or by telephone at 202-648-7190.

SUPPLEMENTARY INFORMATION: We encourage written comments and suggestions from the public and affected agencies concerning the proposed information collection. Your comments should address one or more of the following four points:

—Evaluate whether the proposed information collection is necessary to properly perform ATF's functions, including whether the information will have practical utility;

—Evaluate the agency's estimate of the proposed information collection's burden for accuracy, including validity of the methodology and assumptions used;

—Evaluate whether, and if so, how, the quality, utility, and clarity of the collected information can be enhanced; and

—Minimize the information collection's burden on those who are to respond, including using appropriate automated, electronic, mechanical, or other technological collection techniques or other forms of information technology, e.g., permitting people to submit electronic responses.

Abstract: NICS Improvement Act sought to address gap in information from states about mental health adjudications/commitments prohibiting purchase of firearms. It authorizes grants for states to improve quality and completeness of records available to NICS, but to qualify for a grant, a state official must certify to ATF that the state has implemented a qualifying program permitting persons adjudicated as a mental defective, or committed to an institution to apply for relief from that firearms disability.

Overview of this information collection:

1. Type of information collection: Extension of a previously approved collection.

2. Title of the form/collection: Certifying Qualifying State Relief from Disabilities Program.

3. The agency form number, if any, and the applicable component of the Department sponsoring the collection: Form number: ATF Form 3210.12.

Component: Bureau of Alcohol, Tobacco, Firearms, and Explosives; U.S. Department of Justice.

4. Affected public who will be asked or required to respond, as well as the obligation to respond: Affected Public: State, local, and tribal governments.

The obligation to respond is required to obtain or retain a benefit.

5. An estimate of the total number of respondents and the amount of time estimated for an average respondent to respond: An estimated 10 respondents will respond to this collection once annually, and it will take each respondent approximately 15 minutes (0.25 hours) to complete their responses.

6. An estimate of the total annual burden (in hours) associated with the collection: The estimated annual public burden associated with this collection is 2.5 hours, which is equal to 10 (total respondents) * 1 (# of responses per respondent) * 15 minutes (.25 minutes).

7. An estimate of the total annual cost burden associated with the collection, if applicable: $120.

Table—Estimated annualized respondent cost and hour burden
Activity | Number of respondents | Frequency | Total annual responses | Time per response | Total annual burden (hours) | Hourly rate | Monetized value of respondent time
Complete | 10 | 1 | 10 | 0.25 | 2.5 | $47.92 | $120

If you need additional information, contact: Darwin Arceo, Department Clearance Officer; United States Department of Justice; Justice Management Division, Policy and Planning Staff; Two Constitution Square, 145 N Street NE, 4W-218, Washington, DC.

Dated: July 31, 2025.
Darwin Arceo,
Department Clearance Officer for PRA,U.S. Department of Justice.

[FR Doc. 2025-14774 Filed 8-4-25; 8:45 am]

BILLING CODE 4410-FY-P